DEPARTMENT OF AGRICULTURE

Forest Service

Pacific Northwest National Scenic Trail Advisory Council

AGENCY: Forest Service, Agriculture (USDA).

ACTION: Notice of meeting.

SUMMARY: The Pacific Northwest National Scenic Trail Advisory Council will hold a public meeting according to the details shown below. The Council is authorized under the National Trails System Act (the Act) and operates in compliance with the Federal Advisory Committee Act (FACA). The purpose of the Council is to advise and make recommendations to the Secretary of Agriculture, through the Chief of the Forest Service, on matters relating to the Pacific Northwest National Scenic Trail as described in the Act.

DATES: A virtual meeting will be held on August 24, 2023, 8:00 a.m.-4:00 p.m., Pacific Daylight Time.

Written and Oral Comments: Anyone wishing to provide virtual oral comments must pre-register by 11:59 p.m. Pacific Daylight Time on August 18, 2023. Written public comments will be accepted by 11:59 p.m. Pacific Daylight Time on August 18, 2023. Comments submitted after this date will be provided to the Forest Service, but the Council may not have adequate time to consider those comments prior to the meeting.

All council meetings are subject to cancellation. For status of the meeting prior to attendance, please contact the person listed under FOR FURTHER INFORMATION CONTACT.

ADDRESSES: This meeting will be held virtually. The public may also join virtually via the Zoom app or the internet using the link posted at: https://www.fs.usda.gov/detail/pnt/working-together/advisory-committees/?cid=fseprd505622. Council information and meeting details can be found at the following website: https://www.fs.usda.gov/main/pnt/working-together/advisory-committees or by contacting the person listed under FOR FURTHER INFORMATION CONTACT.

Written Comments: Written comments must be sent by email to richard.pringle@usda.gov or via mail (i.e., postmarked) to Rick Pringle, 1220 Southwest Third Avenue, Suite 1700, Portland, Oregon 97204. The Forest Service strongly prefers comments be submitted electronically.

Oral Comments: Persons or organizations wishing to make oral comments must pre-register by 11:59 p.m. PDT, August 18, 2023, and speakers can only register for one speaking slot. Oral comments must be sent by email to richard.pringle@usda.gov or via mail (i.e., postmarked) to Rick Pringle, 1220 Southwest Third Avenue, Suite 1700, Portland, Oregon 97204.

FOR FURTHER INFORMATION CONTACT: Rick Pringle, Designated Federal Officer (DFO), by phone at 503-808-2401 or email at richard.pringle@usda.gov.

SUPPLEMENTARY INFORMATION: The purpose of the meeting is to:

1. Approve meeting minutes;

2. Provide information about the status of the comprehensive plan for the Pacific Northwest National Scenic Trail;

3. Continue discussion and make recommendations regarding the following topics that were identified by the Council in the previous meeting: tribal treaty rights and resources, as well as tribal utilization of areas along the trail; protecting the trail corridor and experience; wildlife; timber and working landscapes; potential nexus with motorized recreation; visitor use management, including carrying capacity, permits, and monitoring; completing the Pacific Northwest National Scenic Trail as a continuous, nonmotorized trail; and maintaining the trail;

4. Discuss and identify the Council's priorities regarding implementation of the comprehensive plan and administration of the Pacific Northwest National Scenic Trail; and

5. Schedule the next meeting.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Council. To ensure that the recommendations of the Council have taken into account the needs of the diverse groups served by USDA, membership shall include to the extent possible, individuals with demonstrated ability to represent minorities, women, and persons with disabilities. USDA is an equal opportunity provider, employer, and lender.

Dated: July 11, 2023.
Cikena Reid,
USDA Committee Management Officer.

[FR Doc. 2023-15044 Filed 7-14-23; 8:45 am]

BILLING CODE 3411-15-P